DEPARTMENT OF TRANSPORTATION

Federal Aviation Administration

Agency Information Collection Activities: Requests for Comments; Clearance of Renewed Approval of Information Collection: FAA Airport Master Record

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 24, 2011, vol. 76, no. 164, page 53025. The Airport Safety Data Program involves the collection and dissemination of civil aeronautics information.

DATES: Written comments should be submitted by November 25, 2011.

FOR FURTHER INFORMATION CONTACT: Kathy DePaepe at (405) 954-9362, or by e-mail at: Kathy A. DePaepe @faa.gov.

SUPPLEMENTARY INFORMATION: OMB Control Number: 2120-0015.

Title: FAA Airport Master Record.

Form Numbers: FAA Forms 5010-1, 5010-2, 5010-3, 5010-5.

Type of Review: Renewal of an information collection.

Background: 49 U.S.C. 329(b) empowers and directs the Secretary of Transportation to collect and disseminate information on civil aeronautics. Aeronautical information is required to be collected by the FAA in order to carry out agency missions such as those related to aviation flying safety, flight planning, airport engineering and federal grants analysis, aeronautical chart and flight information publications, and the promotion of air commerce as required by statute.

Respondents: Approximately 19,800 airport owners/managers and state inspectors.

Frequency: Information is collected on occasion.

Estimated Average Burden per Response: 1 hour.

Estimated Total Annual Burden: 8,870 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on October 20, 2011.
Albert R. Spence,
FAA Assistant Information Collection Clearance Officer, IT Enterprises Business Services Division, AES-200.

[FR Doc. 2011-27709 Filed 10-25-11; 8:45 am]

BILLING CODE 4910-13-P